FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Anchor Express, Inc. (NVO), 850 Dillon Drive, Wood Dale, IL 60191. Officer: Miroslaw Lechowicz, President (QI). Application Type: New NVO License.

Axima USA LLC (NVO & OFF), 5230 Pacific Concourse Drive, #135, Los Angeles, CA 90045. Officers: Michelle Carollo, Manager (QI), Sandra Fairchild, Manager. Application Type: New NVO & OFF License.

Cargozone Logistics, Inc. (NVO & OFF), 2050 West 190th Street, #105, Torrance, CA 90504. Officer: Joon H. Yang, CEO (QI). Application Type: QI Change.

Concert Group Logistics, Inc. (NVO & OFF), 1430 Branding Avenue, Suite 150, Downers Grove, IL 60515. Officers: Dominick Muzi, President (QI), Gordon Devens, Secretary. Application Type: QI Change.

Global Logistic Partners, Inc. (NVO & OFF), 16407 NW 8th Avenue, #A, Miami, FL 33169. Officer: Carol Bagouty, President (QI). Application Type: New NVO & OFF License.

ICAT Logistics, Inc. (OFF), 6805 Douglas Legum Drive, Elkridge, MD 21075. Officers: Howard K. Buford, Ocean Freight Director (QI), Richard L. Campbell, Jr., President. Application Type: QI Change.

Jacobson Global Logistics, Inc. (OFF), 1930 6th Avenue South, #401, Seattle, WA 98134. Officers: Kevin J. Krause, VP Pricing and Supplier Management (QI), Peter F. Knapp, President. Application Type: QI Change.

Jade Sky Logistics Corp. (NVO), 10630 Boyette Creek Blvd., Riverview, FL 33569. Officer: Sidney Rosario, President (QI). Application Type: Transfer from a New York Corporation to a Florida Corporation under exact same name.

KTL USA, LLC (NVO), 17 Hilliard Avenue, Edgewater, NJ 07020. Officers: Tufan Duygun, Secretary (QI), Serhat Ozisik, President. Application Type: New NVO License.

Logistics Cargo Concept Inc. (NVO & OFF), 1031 W. Manchester Blvd., Suite C, 1st Floor, Inglewood, CA 90301. Officers: Sammy Yeung, President (QI), Philip Chin, CFO. Application Type: New NVO & OFF License.

T-Z Enterprises Inc (NVO), 10435 Hampshire Ct., Cypress, CA 90630. Officer: Moo Sang Cho, CEO (QI). Application Type: New NVO License.

Welcome Freight Forwarding, Inc. (NVO & OFF), 8424 NW 56th Street, Miami, FL 33166. Officer: Gustavo T. Navarro, President (QI). Application Type: Add NVO Service.

World Trade Cargo & Logistics, Inc. (NVO & OFF), 1225 N. 28th Avenue, Suite 100, DFW Airport, TX 75261. Officer: Rolanda Leslie, Vice President (QI). Application Type: Add NVO Service.

By the Commission.
Dated: September 14, 2012.
Karen V. Gregory,
Secretary.

[FR Doc. 2012-23173 Filed 9-19-12; 8:45 am]

BILLING CODE 6730-01-P